SMALL BUSINESS ADMINISTRATION

[Disaster Declaration #16882 and #16883; Oklahoma Disaster Number OK-00145]

Presidential Declaration of a Major Disaster for the State of Oklahoma

AGENCY: U.S. Small Business Administration.

ACTION: Notice.

SUMMARY: This is a Notice of the Presidential declaration of a major disaster for the State of Oklahoma (FEMA-4587-DR), dated 02/24/2021.

Incident: Severe Winter Storms.

Incident Period: 02/08/2021 through 02/20/2021.

DATES: Issued on 02/24/2021.

Physical Loan Application Deadline Date: 04/26/2021.

Economic Injury (EIDL) Loan Application Deadline Date: 11/24/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 02/24/2021, applications for disaster loans may be filed at the address listed above or other locally announced locations.

The following areas have been determined to be adversely affected by the disaster:

Primary Counties (Physical Damage and Economic Injury Loans): Canadian, Carter, Cherokee, Comanche, Cotton, Hughes, Jefferson, Le Flore, Mcintosh, Oklahoma, Okmulgee, Osage, Pittsburg, Stephens, Tulsa, Wagoner.

Contiguous Counties (Economic Injury Loans Only):

Oklahoma: Adair, Atoka, Blaine, Caddo, Cleveland, Coal, Creek, Delaware, Garvin, Grady, Haskell, Johnston, Kay, Kingfisher, Kiowa, Latimer, Lincoln, Logan, Love, Marshall, Mayes, McClain, McCurtain, Murray, Muskogee, Noble, Okfuskee, Pawnee, Pontotoc, Pottawatomie, Pushmataha, Rogers, Seminole, Sequoyah, Tillman, Washington.

Arkansas: Polk, Scott, Sebastian.

Kansas: Chautauqua, Cowley.

Texas: Clay, Montague, Wichita.

The Interest Rates are:

| Percent
For Physical Damage:
Homeowners with Credit Available Elsewhere | 2.500
Homeowners without Credit Available Elsewhere | 1.250
Businesses with Credit Available Elsewhere | 6.000
Businesses without Credit Available Elsewhere | 3.000
Non-Profit Organizations with Credit Available Elsewhere | 2.000
Non-Profit Organizations without Credit Available Elsewhere | 2.000
For Economic Injury:
Businesses & Small Agricultural Cooperatives without Credit Available Elsewhere | 3.000
Non-Profit Organizations without Credit Available Elsewhere | 2.000

The number assigned to this disaster for physical damage is 16882 7 and for economic injury is 16883 0.

(Catalog of Federal Domestic Assistance Number 59008)

Cynthia Pitts,
Acting Associate Administrator for Disaster Assistance.

[FR Doc. 2021-04313 Filed 3-2-21; 8:45 am]

BILLING CODE 8026-03-P